DEPARTMENT OF HEALTH AND HUMAN SERVICES

Centers for Disease Control and Prevention

Disease, Disability, and Injury Prevention and Control, Special Emphasis Panel (SEP): Prevention of Health Risk Behaviors Among Youth With Attention-Deficit/Hyperactivity Disorder (U01), FOA DD09-004

Notice of Cancellation: This notice was published in the Federal Register on April 30, 2009, Volume 74, Number 82, pages 19970-19971. The meeting originally scheduled to convene on May 15, 2009 has been cancelled. The meeting will be re-scheduled at a future date, to be announced.

Contact Person for More Information: Brenda Colley-Gilbert, Designated Federal Officer, CDC, 4770 Buford Highway, NE., Mailstop K92, Atlanta, GA 30341, Telephone: (770) 488-6295. The Director, Management Analysis and Services Office, has been delegated the authority to sign Federal Register notices pertaining to announcements of meetings and other committee management activities, for both CDC and the Agency for Toxic Substances and Disease Registry.

Dated: May 15, 2009.
Elaine L. Baker,
Director, Management Analysis and Services Office, Centers for Disease Control and Prevention.

[FR Doc. E9-11994 Filed 5-21-09; 8:45 am]

BILLING CODE 4163-18-P